DEPARTMENT OF COMMERCE

National Oceanic and Atmospheric Administration

[I.D. 110804A]

Caribbean Fishery Management Council; Public Hearings

AGENCY: National Marine Fisheries Service (NMFS), National Oceanic and Atmospheric Administration (NOAA), Commerce.

ACTION: Notice of public hearings.

SUMMARY: The Caribbean Fishery Management Council (Council) will hold a series of six public hearings to obtain input from fishers, the general public, and local agency representatives on the Draft Amendment to the Fishery Management Plans (FMPs) of the U.S. Caribbean to Address Required Provisions of the Magnuson-Stevens Fishery Conservation and Management Act: Amendment 2 to the FMP for the Spiny Lobster Fishery of Puerto Rico and the U.S. Virgin Islands; Amendment 1 to the FMP for the Queen Conch Resources of Puerto Rico and the U.S. Virgin Islands; Amendment 3 to the FMP to the Reeffish Fishery of Puerto Rico and the U.S. Virgin Islands; and Amendment 2 to the FMP for Corals and Reef Associated Invertebrates of Puerto Rico and the U.S. Virgin Islands, including Draft Supplemental Environmental Impact Statement, Regulatory Impact Review, and Regulatory Flexibility Analysis.

DATES: The hearings will be held in November and December 2004. See SUPPLEMENTARY INFORMATION for specific dates, locations, and times. Written comments will be accepted until 5 p.m. on December 31, 2004.

ADDRESSES: See SUPPLEMENTARY INFORMATION for specific locations.

Written comments should be sent to Miguel A. Rolón, Executive Director, Caribbean Fishery Management Council, 268 MuÑoz Rivera Avenue, Suite 1108, San Juan, Puerto Rico 00918-1920; fax: 787-766-6239.

FOR FURTHER INFORMATION CONTACT: Caribbean Fishery Management Council, 268 MuÑoz Rivera Avenue, Suite 1108, San Juan, Puerto Rico 00918-2577; telephone: 787-766-5926.

SUPPLEMENTARY INFORMATION: The Council will hold public hearings on the Draft Amendment to the FMPs of the U.S. Caribbean to Address Required Provisions of the Magnuson-Stevens Fishery Conservation and Management Act: Amendment 2 to the FMP for the Spiny Lobster Fishery of Puerto Rico and the U.S. Virgin Islands; Amendment 1 to the FMP for the Queen Conch Resources of Puerto Rico and the U.S. Virgin Islands; Amendment 3 to the FMP to the Reeffish Fishery of Puerto Rico and the U.S. Virgin Islands; and Amendment 2 to the FMP for Corals and Reef Associated Invertebrates of Puerto Rico and the U.S. Virgin Islands, including Draft Supplemental Environmental Impact Statement, Regulatory Impact Review, and Regulatory Flexibility Analysis.

Public hearings will be held at the following dates, times, and locations:

1. Monday, November 29, 2004, Divi Carina Hotel, 35 Turner Hole, St. Croix, USVI 00820, from 7 to 10 p.m.;

2. Tuesday, November 30, 2004, Holiday Inn, Windward Passage, Veterans Drive, St. Thomas, USVI 00804, from 7 to 10 p.m.;

3. Monday, December 13, 2004, Ponce Holiday Inn, 3315 Ponce by Pass, Ponce, Puerto Rico 00728, from 1 to 4 p.m.;

4. Tuesday, December 14, 2004, Mayaguez Resort and Casino, Rd. 104 Km. .0.3, Barrio Agarrobo, Mayaguez, Puerto Rico 00681, from 1 to 4 p.m.;

5. Wednesday, December 15, 2004, Centro Comunal Las Croabas, Fajardo, Puerto Rico 00738, from 4 to 7 p.m.; and

6. Thursday, December 16, 2004, Normandie Hotel, San Juan, Puerto Rico 00901, from 1 to 4 p.m.

These meetings are physically accessible to people with disabilities. For more information or to request sign language interpretation and/or other auxiliary aids, please contact Miguel A. Rolón (see ADDRESSES) at least five days prior to the meeting date.

Dated: November 9, 2004.
Alan D. Risenhoover,
Acting Director, Office of Sustainable Fisheries, National Marine Fisheries Service.

[FR Doc. 04-25432 Filed 11-15-04; 8:45 am]

BILLING CODE 3510-22-S